DEPARTMENT OF THE INTERIOR

Bureau of Land Management

[MT-010-1220-AA]

Notice of Closure of Certain Public Lands to the Discharge of Firearms, Pellet Guns, and Paint-Ball Guns

AGENCY: Bureau of Land Management, Interior.

ACTION: Notice of closure of certain public lands to the discharge of firearms, pellet guns, and paint-ball guns.

SUMMARY: Notice is hereby given that on all public lands in the South Hills Area, located two miles south of Billings, Montana; and 16.88 acres of land, located two miles southeast of Laurel, Montana, situated on the right bank of the Clarks Fork of the Yellowstone River, directly across the river from the Sundance Lodge Recreation Area, are closed to the discharge of firearms, pellet guns, and paint-ball guns. This closure is necessary for public safety and resource protection of public and private lands.

Public lands closed to the discharge of firearms, pellet guns, and paint-ball guns:

T. 1 S., R. 26 E., P.M.M., South Hills Area,

Sec. 14, lot 3, SE¼NW¼, E½SW¼, S½SE¼;

Sec. 21, NE¼NE¼, S½NE¼, SE¼NW¼;

Sec. 22, SW¼NE¼, NW¼, N½SW¼, N½SE¼;

Sec. 23, N½NE¼, NE¼NW¼;

Sec. 24, W½W½;

Sec. 25, NW¼NW¼;

Sec. 26, E½NE¼.

T. 2 S., R. 24 E., P.M.M., adjoining the Sundance Lodge Recreation Area,

Sec. 23, lot 5aa;

secs. 23 and 24, lot 5b.

Exempted from this closure are law enforcement officers, or persons with written authorization allowing the otherwise prohibited act.

Authority: Authority for this action is outlined sections 302, 303, and 310 of the Federal Land Policy and Management Act (43 USC 1716) and Title 43 Code of Federal Regulations, Subpart 8364 (43 CFR 8364.1). Any person who fails to comply with this closure is subject to arrest and a fine up to $1,000 or imprisonment not to exceed 12 months, or both.

EFFECTIVE DATE: This closure is effective year-round upon the date of publication.

FOR FURTHER INFORMATION CONTACT: Sandra S. Brooks, Field Manager, BLM, Billings Field Office, 5001 Southgate Drive, P.O. Box 36800, Billings, Montana 59107-6800, or call (406) 896-5013.

Dated: October 6, 2000.
Sandra S. Brooks,
Field Manager.

[FR Doc. 00-26441 Filed 10-13-00; 8:45 am]

BILLING CODE 4310-$$-P